DEPARTMENT OF HEALTH AND HUMAN SERVICES

Centers for Disease Control and Prevention

[30Day-17-16AXC]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessing Safety and Health Hazards to Workers in Oil and Gas Extraction: A Survey—New—National Institute for Occupational Safety and Health (NIOSH), Centers for Disease Control and Prevention (CDC).

Background and Brief Description

The mission of the National Institute for Occupational Safety and Health (NIOSH) is to promote safety and health at work for all people through research and prevention. The Occupational Safety and Health Act, 91 (section 20[a] [1]), authorizes NIOSH to conduct research to advance the health and safety of workers. NIOSH is proposing a two year study to conduct a survey questionnaire of 500 land-based oil and gas (O&G) extraction workers in 5 U.S. states (Texas, North Dakota, Colorado, Oklahoma and a state in the Appalachian Basin) to examine safety and health issues and concerns of this workforce. Workers who drive as a part of their work duties will be asked to complete an additional set of questions about their driving environment and behaviors. We expect a response rate of 80%, so it is estimated that we will approach 625 workers in order to have 500 workers complete the survey.

The goals of this study are (1) To determine on-duty and off-duty factors that contribute to motor vehicle crashes, injuries and illness among U.S. land-based O&G extraction workers and (2) To identify other safety and health needs and concerns of U.S. land-based O&G extraction workers. The results of this study will guide the development of evidence-based and priority interventions and future research in the O&G extraction industry that will improve the safety and health of O&G workers.

Administration of the survey questionnaire will occur at temporary modular lodging facilities (`man camps'), training centers, equipment/trucking yards, well sites, and community centers in oilfield towns. A screening questionnaire, “Module 1: Screening” will be administered to 313 workers per year (for 2 years) to determine that the worker is eligible for the survey. This questionnaire will take about 5 minutes. NIOSH anticipates that up to 63 workers per year (20% of screened workers) will be eligible but not interested in participating in this study. These workers will be asked to complete a brief, 6-question “Non-Respondent Questionnaire”, which will take about 5 minutes. Approximately 250 workers per year (for 2 years) will be eligible and agree to participate in the study (80% response rate). These workers will complete “Module 2: General,” “Module 3: Well-site work,” and “Module 5: Closing Questions” (approximately 225 workers will use the tablet version and 25 will opt to use the hardcopy version). “Module 5: Closing Questions” includes a brief interview with program staff. The questionnaire and interview will take approximately 25 minutes to complete for workers using the tablet as well as for those using the hardcopy version. Workers who drive a company vehicle will also be asked to complete “Module 4: Motor Vehicle.” An estimated 75% of the workers will complete the driving portion of the survey (187 workers). This module will take approximately 5 additional minutes to complete for those using the tablet (approximately 168 workers per year) as well as 5 minutes for those completing the hardcopy version (19 workers per year).

Comments submitted in response to this notice will be reviewed and addressed prior to OMB application submission. The total estimated burden hours are 151.

Estimated Annualized Burden Hours
Type of respondents | Form name | Number of respondents | Number of responses per respondent | Average burden per response (in hours)
Screening of Workers | Module 1: Screening | 313 | 1 | 5/60
O&G Extraction Workers | Non Respondent Questionnaire | 63 | 1 | 5/60
O&G Extraction Workers | Tablet Version, Modules 2: General, Module 3: Well Site Work, and, Module 5: Closing Questions | 225 | 1 | 25/60
O&G Extraction Workers | Hardcopy, Version, Modules 2: General, Module 3: Well Site Work, and, Module 5: Closing Questions | 25 | 1 | 25/60
O&G Extraction Workers who drive at work | Tablet Version, Module 4: Motor Vehicle | 168 | 1 | 5/60
O&G Extraction Workers who drive at work | Hardcopy Version, Module 4: Motor Vehicle | 19 | 1 | 5/60

Leroy A. Richardson,
Chief, Information Collection Review Office, Office of Scientific Integrity, Office of the Associate Director for Science, Office of the Director, Centers for Disease Control and Prevention.

[FR Doc. 2017-06874 Filed 4-5-17; 8:45 am]

BILLING CODE 4163-18-P